DEPARTMENT OF HOMELAND SECURITY

Coast Guard

33 CFR Parts 100 and 165

[Docket No. USCG-2012-1036]

Safety Zones & Special Local Regulations; Recurring Marine Events in Captain of the Port Long Island Sound Zone

AGENCY: Coast Guard, DHS.

ACTION: Notice of enforcement of regulation.

SUMMARY: The Coast Guard will enforce one special local regulation for a regatta and 31 safety zones for fireworks displays in the Sector Long Island Sound area of responsibility on the dates and times listed in the tables below. This action is necessary to provide for the safety of life on navigable waterways during the events. During the enforcement periods, no person or vessel may enter the regulated area or safety zones without permission of the Captain of the Port (COTP) Sector Long Island Sound or designated representative.

DATES: The regulations in 33 CFR 100.100 and 33 CFR 165.151 will be enforced from June 7, 2014, to August 30, 2014.

FOR FURTHER INFORMATION CONTACT: If you have questions on this notice, call or email Petty Officer Scott Baumgartner, Waterways Management Division, U.S. Coast Guard Sector Long Island Sound; telephone 203-468-4559, email Scott.A.Baumgartner@uscg.mil.

SUPPLEMENTARY INFORMATION: The Coast Guard will enforce the special local regulation listed in 33 CFR 100.100 and the safety zones listed in 33 CFR 165.151 on the specified dates and times as indicated in the Tables below. If the event is delayed by inclement weather, the regulation will be enforced on the rain date indicated in the Tables above. These regulations were published in the Federal Register on May 24, 2013 (78 FR 31402).

Table 1 to § 100.100
6.1 Harvard-Yale Regatta, Thames River, New London, CT | • Event type: Boat Race.
| • Date: June 7, 2014.
| • Rain Date: June 8, 2014.
| • Time: 1:15 p.m. to 5:15 p.m.
| • Location: All waters of the Thames River at New London, Connecticut, between the Penn Central Draw Bridge 41°21′46.94″ N, 072°5′14.46″ W to Bartlett Cove 41°25′35.9″ N, 072°5′42.89″ W (NAD 83).

Table 1 to § 165.151
6 | June
6.1 Barnum Festival Fireworks | • Date: June 27, 2014.
| • Rain Date: June 29, 2014.
| • Time: 8:30 p.m. to 10:30 p.m.
| • Location: Waters of Bridgeport Harbor, Bridgeport, CT within 800 feet of the fireworks launch site located in approximate position 41°09′34″ N, 073°11′18″ W (NAD 83).
6.2 Town of Branford Fireworks | • Date: June 21, 2014.
| • Rain Date: June 22, 2014.
| • Time: 9 p.m. to 10:30 p.m.
| • Location: Waters of Branford Harbor, Branford, CT within 600 feet of the fireworks launch site located in approximate position 41°15′37″ N, 072°49′15″ W (NAD 83).
6.3 Vietnam Veterans/Town of East Haven Fireworks | • Date: June 28, 2014.
| • Rain Date: June 30, 2014.
| • Time: 9 p.m. to 10:30 p.m.
| • Location: Waters off Cosey beach, East Haven, CT within 800 feet of the fireworks barge located in approximate position 41°14′36.94″ N, 072°52′05.04″ W (NAD 83).
6.5 Cherry Grove Arts Project Fireworks | • Date: June 7, 2014.
| • Rain Date: June 8, 2014.
| • Time: 8:30 p.m. to 10:30 p.m.
| • Location: Waters of the Great South Bay off Cherry Grove, NY within 600 feet of the fireworks barge located in approximate position 40°39′49.06 ″ N, 073°05′27.99″ W (NAD 83).
7 | July
7.1 Point O'Woods Fire Company Summer Fireworks | • Date: July 4, 2014.
| • Rain Date: July 5, 2014.
| • Time: 9 p.m. to 11 p.m.
| • Location: Waters of the Great South Bay, near Point O'Woods, NY within 800 feet of the fireworks barge located in approximate position 40°39′27.28″ N, 073°08′20.98″ W (NAD 83).
7.4 Norwalk Fireworks | • Date: July 3, 2014.
| • Rain Date: July 5, 2014.
| • Time: 8:30 p.m. to 10:30 p.m.
| • Location: Waters off Calf Pasture Beach, Norwalk, CT within 1000 feet of the fireworks barge located in approximate position 41°04′42.87″ N, 073°23′31.73″ W (NAD 83).
7.5 Lawrence Beach Club Fireworks | • Date: July 3, 2014.
| • Rain Date: July 5, 2014.
| • Time: 9 p.m. to 10:30 p.m.
| • Location: Waters of the Atlantic Ocean off Lawrence Beach Club, Atlantic Beach, NY within 800 feet of the fireworks barge located in approximate position 40°34′42.65″ N, 073°42′56.02″ W (NAD 83).
7.6 Sag Harbor Fireworks | • Date: July 5, 2014.
| • Rain Date: July 6, 2014.
| • Time: 8:30 p.m. to 10:30 p.m.
| • Location: Waters of Sag Harbor Bay off Havens Beach, Sag Harbor, NY within 600 feet of the fireworks barge located in approximate position 41°00′25.86″ N, 072°17′16.88″ W (NAD 83).
7.7 South Hampton Fresh Air Home Fireworks | • Date: July 4, 2014.
| • Rain Date: July 6, 2014.
| • Time: 8:30 p.m. to 11 p.m.
| • Location: Waters of Shinnecock bay, Southampton, NY within 600 feet of the fireworks barge located in approximate position 40°51′49.14″ N, 072°26′31.48″ W (NAD 83).
7.8 Westport Police Athletic league Fireworks | • Date: July 3, 2014.
| • Rain Date: July 7, 2014.
| • Time: 8:30 p.m. to 11 p.m.
| • Location: Waters off Compo Beach, Westport, CT within 800 feet of the fireworks barge located in approximate position, 41°06′14.83″ N, 073°20′56.52″ W (NAD 83).
7.9 City of Middletown Fireworks | • Date: July 3, 2014.
| • Rain date: July 5, 2014.
| • Time: 8:30 p.m. to 10:30 p.m.
| • Location: Waters of the Connecticut River, Middletown Harbor, Middletown, CT within 600 feet of the fireworks barges located in approximate position 41°33′47.50″ N, 072°38′38.39″ W (NAD 83).
7.11 City of Norwich July Fireworks | • Date: July 4, 2014.
| • Rain date: July 6, 2014.
| • Time: 9 p.m. to 10:30 p.m.
| • Location: Waters of the Thames River, Norwich, CT within 400 feet of the fireworks barges located in approximate position, 41°31′14.19″ N, 072°04′43.23″ W (NAD 83).
7.16 Fairfield Aerial Fireworks | • Date: July 4, 2014.
| • Rain date: July 5, 2014.
| • Time: 8:30 p.m. to 11 p.m.
| • Location: Waters of Long Island Sound off Jennings Beach, Fairfield, CT within 1000 feet of the fireworks barge located in approximate position 41°08′16.92″ N, 073°14′01.02″ W (NAD 83).
7.18 Independence Day Celebration Fireworks | • Date: July 4, 2014.
| • Rain date: July 5, 2014.
| • Time: 8:30 p.m. to 10:30 p.m.
| • Location: Waters off of Umbrella Beach, Montauk, NY within 600 feet of the fireworks launch site located in approximate position 41°01′44.11″ N, 071°57′13.67″ W (NAD 83).
7.24 Village of Asharoken Fireworks | • Date: July 4, 2014.
| • Rain date: July 5, 2014.
| • Time: 8:45 p.m. to 10:45 p.m.
| • Location: Waters of Northport Bay, Asharoken, NY within 600 feet of the fireworks barge located in approximate position, 41°55′54.86″ N, 073°21′27.22″ W (NAD 83).
7.25 Village of Port Jefferson Fourth of July Celebration Fireworks | • Date: July 4, 2014.
| • Rain date: July 5, 2014.
| • Time: 8:45 p.m. to 10:45 p.m.
| • Location: Waters of Long Island Sound off East Beach, Port Jefferson, NY within 500 feet of launch site located in approximate position 40°57′53.19″ N, 073°03′09.72″ W (NAD 83).
7.27 City of Long Beach Fireworks | • Date: July 11, 2014.
| • Rain Date: July 12, 2014.
| • Time: 8:30 p.m. to 10 p.m.
| • Location: Waters of the Atlantic Ocean off Riverside Blvd, City of Long Beach, NY within 800 feet of the fireworks barge located in approximate position 40°34′38.77″ N, 073°39′41.32″ W (NAD 83).
7.30 Shelter Island Fireworks | • Date: July 12, 2014.
| • Rain Date: July 13, 2014.
| • Time: 9 p.m. to 11 p.m.
| • Location: Waters of Gardiner Bay, Shelter Island, NY within 800 feet of the fireworks barge located in approximate position 41°04′32.83″ N, 072°22′07.21″ W (NAD 83).
7.31 Clam Shell Foundation Fireworks | • Date: July 19, 2014.
| • Rain Date: July 20, 2014.
| • Time: 9 p.m. to 11 p.m.
| • Location: Waters of Three Mile Harbor, East Hampton, NY within 800 feet of the fireworks barge located in approximate position 41°01′05.70″ N, 072°11′45.50″ W (NAD 83).
7.33 Groton Long Point Yacht Club Fireworks | • Date: July 19, 2014.
| • Rain Date: July 20, 2014.
| • Time: 8:30 p.m. to 10:30 p.m.
| • Location: Waters of Long Island Sound, Groton, CT within 600 feet of the fireworks barge located in approximate position 41°18′37″ N, 072°00′56″ W (NAD 83).
7.34 Devon Yacht Club Fireworks | • Date: July 5, 2014.
| • Rain Date: July 6, 2014.
| • Time: 8:30 p.m. to 11 p.m.
| • Location: Waters of Napeague Bay, in Block Island Sound off Amagansett, NY within 600 feet of the fireworks barge located in approximate position 40°59′41.40″ N, 072°06′08.70″ W (NAD 83).
7.35 Dolan Family Fourth Fireworks | • Date: July 4, 2014.
| • Rain date: July 5, 2014.
| • Time: 8:30 p.m. to 10:30 p.m.
| • Location: Waters of Oyster Bay Harbor in Long Island Sound off Oyster Bay, NY within 500 feet of the fireworks barge located in approximate position 40°53′42.50″ N, 073°29′57.00″ W (NAD 83).
7.38 Madison Fireworks | • Date: July 4, 2014.
| • Rain Date: July 5, 2014.
| • Time: 9 p.m. to 10:30 p.m.
| • Location: Waters of Long Island Sound off Madison Beach, Madison, CT within 800 feet of the fireworks barge located in approximate position 41°16′08.93″ N, 072°36′17.98″ W (NAD 83).
7.39 Stratford Fireworks | • Date: July 3, 2014.
| • Rain date: July 5, 2014.
| • Time: 8:30 p.m. to 10:30 p.m.
| • Location: Waters of Long Island Sound surrounding Short Beach Park, Stratford, CT within 600 feet of the fireworks launch site located in approximate position 41°09′50.82″ N, 073°06′47.13″ W (NAD 83).
7.40 Rowayton Fireworks | • Date: July 4, 2014.
| • Rain date: July 5, 2014.
| • Time: 9 p.m. to 10:30 p.m.
| • Location: Waters of Long Island Sound south of Bayley Beach Park in Rowayton, CT within 1000 feet of the fireworks barge located in approximate position 41°03′16.56″ N, 073°26′42.69″ W (NAD 83).
7.42 Connetquot River Summer Fireworks | • Date: July 3, 2014.
| • Rain Date: July 5, 2014.
| • Time: 8:45 p.m. to 10:45 p.m.
| • Location: Waters of the Connetquot River off Snapper Inn Restaurant, Oakdale, NY within 600 feet of the fireworks barge located in approximate position 40°43′30.03″ N, 073°08′40.25″ W (NAD 83).
7.44 National Golf Links Fireworks | • Date: July 5, 2014.
| • Time: 9 p.m. to 10:30 p.m.
| • Location: Waters of the Great Peconic Bay ¾ of a mile northwest of Bullhead Bay, Shinnecock, NY within 1000 feet of the fireworks barge located in approximate position 40°55′11.79″ N, 072°28′04.34″ W (NAD 83).
8 | August
8.4 Town of Babylon Fireworks | • Date: August 23, 2014.
| • Rain Date: August 24, 2014.
| • Time: 8:30 p.m. to 10 p.m.
| • Location: Waters of the Atlantic Ocean off of Cedar Beach Town Park, Babylon, NY within 1000 feet of the fireworks launch site located in approximate position 40°37′53″ N, 073°20′12″ W (NAD 83).
8.8 Ascension Fireworks | • Date: August 16, 2014.
| • Rain Date: August 17, 2014.
| • Time: 8:30 p.m. to 10:30 p.m.
| • Location: Waters of the Great South Bay off The Pines, East Fire Island, NY within 600 feet on the fireworks barge located in approximate position 40°40′07.47″ N, 073°04′31.73″ W (NAD 83).
9 | September
9.1 East Hampton Fire Department Fireworks | • Date: August 30, 2014.
| • Rain Date: August 31, 2014.
| • Time: 8:30 p.m. to 10:30 p.m.
| • Location: Waters off Main Beach, East Hampton, NY within 1000 feet of the fireworks launch site located in approximate position 40°56′44″ N, 072°11′17″ W (NAD 83).
9.4 The Creek Fireworks | • Date: August 30, 2014.
| • Rain Dates: August 31, 2014 or September 6, 2014.
| • Time: 7:30 p.m. to 10:30 p.m.
| • Location: Waters of Long Island Sound off the Creek Golf Course, Lattingtown, NY within 600 feet of the fireworks launch site located in approximate position 40°54′13” N 073°35′58” W (NAD 83).

Under the provisions of 33 CFR 100.100 and 33 CFR 165.151, the regatta and fireworks displays listed above in DATES are established as a special local regulation or safety zones. During the enforcement periods, persons and vessels are prohibited from entering into, transiting through, mooring, or anchoring within the regulated area or safety zone unless they receive permission from the COTP or designated representative.

This notice is issued under authority of 33 CFR 100 and 33 CFR 165 and 5 U.S.C. 552 (a). In addition to this notice in the Federal Register, the Coast Guard will provide the maritime community with advance notification of this enforcement period via the Local Notice to Mariners or marine information broadcasts. If the COTP determines that the regulated area or safety zone need not be enforced for the full duration stated in this notice, a Broadcast Notice to Mariners may be used to grant general permission to enter the regulated area or safety zone.

Dated: May 1, 2014.
E.J. Cubanski, III,
Captain, U.S. Coast Guard, Captain of the Port Sector Long Island Sound.

[FR Doc. 2014-11564 Filed 5-20-14; 8:45 am]

BILLING CODE 9110-04-P